DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Design for the Evaluation of the Maternal and Child Health Bureau, Bright Futures for Women's Health and Wellness Initiative and Preliminary Evaluation of Initial Products—New

The HRSA Office of Women's Health (OWH) is developing the Bright Futures for Women's Health and Wellness (BFWHW) Initiative to help expand the scope of women's preventive health activities, particularly related to nutrition and physical activity. A pilot test of the BFWHW health promotion tools and materials will be conducted in order to improve the effectiveness of the tools themselves, and to gather feedback on productive strategies for disseminating the tools for appropriate use to training providers and community organizations. Thus, the empirical findings from this pilot test will help shape the final BFWHW tool development. This data collection effort will ensure that the HRSA OWH develops targeted and effective tools for translating health prevention recommendations into nutrition and physical activity messages.

Toward this end, data will be collected from women patients, providers, and representatives of community organizations. Women patients ages 18 and over of various racial and ethnic backgrounds will complete questionnaires at three health centers in different geographic areas of the country. The health care providers at these same sites will also be asked to complete a brief questionnaire. Telephone interviews will be completed with representatives from community organizations located in the service areas of these health centers. The data collection period is estimated to last three weeks.

The estimated response burden is as follows:

Questionnaire | Number of respondents | Responses per respondent | Total responses | Minutes per response | Total burden hours
Woman Patient | 2,400 | 1 | 2,400 | 5 | 200
Provider | 18 | 1 | 18 | 5 | 1.5
Administrator | 3 | 1 | 3 | 45 | 8.25
Total | 2,421 |  | 2,421 |  | 203.75

Written comments and recommendations concerning the proposed information collection should be sent within 30 days of this notice to: John Morrall, Human Resources and Housing Branch, Office of Management and Budget, New Executive Office Building, Room 10235, Washington, DC 20503.

Dated: April 7, 2003.
Jane M. Harrison,
Director, Division of Policy Review and Coordination.

[FR Doc. 03-8902 Filed 4-10-03; 8:45 am]

BILLING CODE 4165-15-P